DEPARTMENT OF THE TREASURY

Internal Revenue Service

26 CFR Part 1

[REG-126100-00]

RIN 1545-AY62

Guidance on Reporting of Deposit Interest Paid to Nonresident Aliens; Correction

AGENCY: Internal Revenue Service (IRS), Treasury.

ACTION: Correction to notice of proposed rulemaking and notice of public hearing.

SUMMARY: This document contains corrections to REG-126100-00, which was published in the Federal Register on Wednesday, January 17, 2001 (66 FR 3925). These regulations provide guidance on the reporting requirements for interest on deposits maintained at the U.S. office of certain financial institutions and paid to nonresident alien individuals.

FOR FURTHER INFORMATION CONTACT: Kate Y. Hwa (202) 622-3840 (not a toll-free number).

SUPPLEMENTARY INFORMATION:

Background

The notice of proposed rulemaking and notice of public hearing that is the subject of these corrections is under section 6049 of the Internal Revenue Code.

Need for Correction

As published, REG-126100-00 contains errors which may prove to be misleading and are in need of clarification.

1. On page 3927, column 1, in the preamble, under the paragraph heading “Comments and Public Hearing”, second paragraph, line 2, the language “for March 31, 2001, beginning at 10 a.m.” is corrected to read “for March 21, 2001, beginning at 10 a.m.”.

§ 1.6049-4 [Corrected]

2. On page 3927, column 3, § 1.6049-4(b)(5)(ii), lines 5 through 8, the language “published in the Federal Register with respect to a Form W-8 (Certificate of Foreign Status) furnished to the payor or middleman after that date. (For interest” is corrected to read “published in the Federal Register. (For interest”.

Cynthia Grigsby,
Chief, Regulations Unit, Office of Special Counsel, (Modernization & Strategic Planning).

[FR Doc. 01-6478 Filed 3-20-01; 8:45 am]

BILLING CODE 4830-01-P